DEPARTMENT OF ENERGY

Federal Energy Regulatory Commission

Combined Notice of Filings

Take notice that the Commission has received the following Natural Gas Pipeline Rate and Refund Report filings:

Filings Instituting Proceedings

Docket Numbers: RP10-837-000.

Applicants: Dominion Transmission, Inc.

Description: DTI—Operational Gas Sales Report—2014.

Filed Date: 6/30/14.

Accession Number: 20140630-5231.

Comments Due: 5 p.m. ET 7/14/14.

Docket Numbers: RP10-900-000.

Applicants: Dominion Transmission, Inc.

Description: DTI—Informational Fuel Report—2014.

Filed Date: 6/30/14.

Accession Number: 20140630-5232.

Comments Due: 5 p.m. ET 7/14/14.

Docket Numbers: RP14-1064-000.

Applicants: Gulf South Pipeline Company, LP.

Description: Cap Rel Neg Rate Agmts (QEP 36601, 37657 to 42637,42644,42645,42648) to be effective 7/1/2014.

Filed Date: 6/30/14.

Accession Number: 20140630-5042.

Comments Due: 5 p.m. ET 7/14/14.

Docket Numbers: RP14-1065-000.

Applicants: Gulf South Pipeline Company, LP.

Description: Cap Rel Neg Rate Agmt (Petrohawk 41455 to BP 42647) to be effective 7/1/2014.

Filed Date: 6/30/14.

Accession Number: 20140630-5043.

Comments Due: 5 p.m. ET 7/14/14.

Docket Numbers: RP14-1066-000.

Applicants: Gulf South Pipeline Company, LP.

Description: Cap Rel Neg Rate Agmt (JW Operating 34690 to QWest 42657) to be effective 7/1/2014.

Filed Date: 6/30/14.

Accession Number: 20140630-5044.

Comments Due: 5 p.m. ET 7/14/14.

Docket Numbers: RP14-1067-000.

Applicants: Dominion Transmission, Inc.

Description: DTI—June 30, 2014 Negotiated Rate Agreement to be effective 7/1/2014.

Filed Date: 6/30/14.

Accession Number: 20140630-5065.

Comments Due: 5 p.m. ET 7/14/14.

Docket Numbers: RP14-1068-000.

Applicants: Northern Natural Gas Company.

Description: 20140630 ILD Compliance Filing to be effective 9/30/2014.

Filed Date: 6/30/14.

Accession Number: 20140630-5077.

Comments Due: 5 p.m. ET 7/14/14.

Docket Numbers: RP14-1069-000.

Applicants: Texas Eastern Transmission, LP.

Description: EPC AUG 2014 FILING to be effective 8/1/2014.

Filed Date: 6/30/14.

Accession Number: 20140630-5122.

Comments Due: 5 p.m. ET 7/14/14.

Docket Numbers: RP14-1070-000.

Applicants: Big Sandy Pipeline, LLC.

Description: Big Sandy EPC 2014 to be effective 8/1/2014.

Filed Date: 6/30/14.

Accession Number: 20140630-5124.

Comments Due: 5 p.m. ET 7/14/14.

Docket Numbers: RP14-1071-000.

Applicants: Iroquois Gas Transmission System, L.P.

Description: BP Energy Company (RTS)—1410-15 & 18 to be effective 7/1/2014.

Filed Date: 6/30/14.

Accession Number: 20140630-5136.

Comments Due: 5 p.m. ET 7/14/14.

Docket Numbers: RP14-1072-000.

Applicants: Horizon Pipeline Company, L.L.C.

Description: Negotiated Rate Filing—Nicor Gas to be effective 7/1/2014.

Filed Date: 6/30/14.

Accession Number: 20140630-5168.

Comments Due: 5 p.m. ET 7/14/14.

Docket Numbers: RP14-1073-000.

Applicants: East Tennessee Natural Gas, LLC.

Description: EQT permanent release to Range to be effective 7/1/2014.

Filed Date: 6/30/14.

Accession Number: 20140630-5173.

Comments Due: 5 p.m. ET 7/14/14.

Docket Numbers: RP14-1074-000.

Applicants: Millennium Pipeline Company, LLC.

Description: Negotiated Rate Service Agreement—MMGS to be effective 8/1/2014.

Filed Date: 6/30/14.

Accession Number: 20140630-5209.

Comments Due: 5 p.m. ET 7/14/14.

Docket Numbers: RP14-1075-000.

Applicants: Northern Natural Gas Company.

Description: 20140630 Negotiated Rate to be effective 7/1/2014.

Filed Date: 6/30/14.

Accession Number: 20140630-5229.

Comments Due: 5 p.m. ET 7/14/14.

Docket Numbers: RP14-1076-000.

Applicants: Chandeleur Pipe Line, LLC.

Description: Chandeleur Name Change Refile to be effective 1/24/2014.

Filed Date: 6/30/14.

Accession Number: 20140630-5253.

Comments Due: 5 p.m. ET 7/14/14.

Docket Numbers: RP14-1077-000.

Applicants: Chandeleur Pipe Line, LLC.

Description: Chandeleur Show Cause Section 8.7.7 Refile to be effective 6/19/2014.

Filed Date: 6/30/14.

Accession Number: 20140630-5255.

Comments Due: 5 p.m. ET 7/14/14.

Docket Numbers: RP14-1078-000.

Applicants: Transcontinental Gas Pipe Line Company.

Description: Negotiated Rates—Cherokee AGL—Replacement Shippers—Jul 2014 to be effective 7/1/2014.

Filed Date: 6/30/14.

Accession Number: 20140630-5296.

Comments Due: 5 p.m. ET 7/14/14.

Docket Numbers: RP14-1080-000.

Applicants: Iroquois Gas Transmission System, L.P.

Description: Measurement Variance/Fuel Use Factors of Iroquois Gas Transmission System, L.P.

Filed Date: 6/30/14.

Accession Number: 20140630-5328.

Comments Due: 5 p.m. ET 7/14/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1031-007.

Applicants: Trailblazer Pipeline Company LLC.

Description: Rate Case—Final Settlement to be effective 7/1/2014.

Filed Date: 6/30/14.

Accession Number: 20140630-5212.

Comments Due: 5 p.m. ET 7/14/14

Docket Numbers: RP14-628-001.

Applicants: Chandeleur Pipe Line, LLC.

Description: Chandeleur Imbalances Section 8.8.4 Refile to be effective 4/19/2014.

Filed Date: 6/30/14.

Accession Number: 20140630-5254.

Comments Due: 5 p.m. ET 7/14/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated July 1, 2014.
Nathaniel J. Davis, Sr.,
Deputy Secretary.

[FR Doc. 2014-16000 Filed 7-8-14; 8:45 am]

BILLING CODE 6717-01-P